NUCLEAR REGULATORY COMMISSION

[Docket No. 50-7513; NRC-2021-0193]

Kairos Power, LLC; Hermes Test Reactor Facility

AGENCY: Nuclear Regulatory Commission.

ACTION: Construction permit and record of decision; issuance.

SUMMARY: The U.S. Nuclear Regulatory Commission (NRC) is providing notice of the issuance of Construction Permit No. CPTR-6 to Kairos Power LLC (Kairos) and Record of Decision.

DATES: The Construction Permit No. CPTR-6 was issued on December 14, 2023.

ADDRESSES: Please refer to Docket ID NRC-2021-0193 when contacting the NRC about the availability of information for this action. You may obtain publicly available information related to this action by any of the following methods:

• Federal Rulemaking Website: Go to https://www.regulations.gov and search for Docket ID NRC-2021-0193. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Matthew Hiser, Office of Nuclear Reactor Regulation, U.S. Nuclear Regulatory Commission, Washington, DC 20555-0001; telephone: 301-415-2454; email: Matthew.Hiser@nrc.gov.

SUPPLEMENTARY INFORMATION:

I. Introduction

Under section 2.106 of title 10 of the Code of Federal Regulations (10 CFR), the NRC is providing notice of the issuance of Construction Permit No. CPTR-6, to Kairos and issuance of the Record of Decision (ROD) under 10 CFR 51.102. The construction permit, which is immediately effective, authorizes Kairos to construct a test reactor facility in Oak Ridge, Tennessee, as described in Kairos's construction permit application. With respect to the construction permit application filed by Kairos, the NRC finds that the applicable standards and requirements of the Atomic Energy Act of 1954, as amended (the Act), and the Commission's regulations have been met. The NRC finds that any required notifications to other agencies or bodies have been duly made and that, among other things, there is reasonable assurance that the activities authorized by the permit will be conducted in compliance with the rules and regulations of the Commission, that safety questions will be satisfactorily resolved by the completion of construction, and that, taking into consideration siting criteria, the proposed facility can be constructed and operated at the proposed location without undue risk to public health and safety, subject to the conditions listed in the construction permit. Furthermore, the NRC finds that the licensee is technically and financially qualified to engage in the activities authorized, and that issuance of the license will not be inimical to the common defense and security or to the health and safety of the public. Finally, the NRC finds that the findings required by subpart A of 10 CFR part 51 have been made.

Accordingly, the immediately effective construction permit was issued on December 14, 2023.

II. Further Information

The NRC prepared a Safety Evaluation (SE) and Final Environmental Impact Statement (FEIS) that document the NRC's evaluation of Kairos's construction permit application and its findings. The Commission also issued its Memorandum and Order documenting its final decision on the mandatory hearing held on October 19, 2023, which serves as the ROD in this proceeding. The NRC also prepared a document summarizing the ROD that incorporates by reference materials contained in the FEIS. In accordance with 10 CFR 2.390 of the NRC's “Agency Rules of Practice and Procedure,” details with respect to this action, including the SE, FEIS, summary of the ROD, and accompanying documentation included in the construction permit package, as well as the Commission's hearing decision, are available online in the ADAMS Public Documents collection at https://www.nrc.gov/reading-rm/adams.html. From this site, persons can access the NRC's ADAMS, which provides text and image files of NRC's public documents.

III. Availability of Documents

The documents identified in the following table are available to interested persons through one or more of the following methods, as indicated.

Document description | ADAMS accession No.
Construction Permit No. CPTR-6 | ML23338A258.
Commission's Memorandum and Order on the mandatory hearing (ROD) | ML23346A068.
Summary of the Record of Decision | ML23338A257.
Safety Evaluation Related to the Kairos Power LLC Construction Permit Application for the Hermes Test Reactor | ML23158A268.
NUREG-2263, Environmental Impact Statement for the Construction Permit for the Kairos Hermes Test Reactor | ML23214A269.
Kairos Construction Permit Application | ML21272A376.
| ML21272A377.
| ML23151A743 (Package).
| ML22272A598
| ML23055A676.
| ML23089A386 (Package).

Dated: December 14, 2023.
For the Nuclear Regulatory Commission.
Mohamed K. Shams,
Director, Division of Advanced Reactors and Non-Power Production and Utilization Facilities, Office of Nuclear Reactor Regulation.

[FR Doc. 2023-27960 Filed 12-19-23; 8:45 am]

BILLING CODE 7590-01-P